DEPARTMENT OF HEALTH AND HUMAN SERVICES

Administration for Children and Families

Tribal Consultation Meeting

AGENCY: Office of Head Start (OHS), Administration for Children and Families, HHS.

ACTION: Notice of meeting.

SUMMARY: Pursuant to the Improving Head Start for School Readiness Act of 2007, notice is hereby given of a one-day Tribal Consultation Session to be held between the Department of Health and Human Services, Administration for Children and Families, Office of Head Start leadership and the leadership of Tribal Governments operating Head Start (including Early Head Start) programs. The purpose of this Consultation Session is to discuss ways to better meet the needs of American Indian and Alaska Native children and their families, taking into consideration funding allocations, distribution formulas, and other issues affecting the delivery of Head Start services in their geographic locations.

DATES: October 15, 2012 and October 17, 2012.

ADDRESSES: 2012 Office of Head Start Tribal Consultation Session will be held at the following locations: Monday, October 15, 2012—Portland, Oregon—Westin Portland, 750 SW Alder Street, Portland, OR 97205; and Wednesday, October, 17, 2012—Anchorage, Alaska—Hilton Anchorage Hotel, 500 West Third Avenue, Anchorage, AK 99501.

FOR FURTHER INFORMATION CONTACT: Ann Linehan, Deputy Director, Office of Head Start, email Ann.Linehan@acf.hhs.gov or phone (202) 205-8579. Additional information and online meeting registration is available at http://www.headstartresourcecenter.org.

SUPPLEMENTARY INFORMATION: The Department of Health and Human Services (HHS) announces Office of Head Start (OHS) Tribal Consultations for leaders of Tribal Governments operating Head Start and Early Head Start programs in Region X and in Alaska. The Consultation Session for Region X will take place Monday, October 15, 2012, in Portland, Oregon. The Consultation Session for the State of Alaska will take place Wednesday, October 17, 2012, in Anchorage, Alaska, immediately preceding the annual Alaska Federation of Natives convention. As much as possible, OHS Tribal Consultations are scheduled in conjunction with other Tribal Leader events. This is done in an effort to minimize the financial and travel burden for participants.

The agenda for the scheduled OHS Tribal Consultations will be organized around the statutory purposes of Head Start Tribal Consultations related to meeting the needs of AI/AN children and families, taking into consideration funding allocations, distribution formulas, and other issues affecting the delivery of Head Start services in their geographic locations. In addition, OHS will share actions taken and in progress to address the issues and concerns raised in 2011 OHS Tribal Consultations.

Tribal leaders and designated representatives interested in submitting written testimony or proposing specific agenda topics for the Oklahoma City Consultation Session should contact Ann Linehan at Ann.Linehan@acf.hhs.gov. Proposals must be submitted at least three days in advance of the session and should include a brief description of the topic area, along with the name and contact information of the suggested presenter.

The Consultation Session will be conducted with elected or appointed leaders of Tribal Governments and their designated representatives (42 U.S.C. 9835, Section 640(l)(4)(A)). Designees must have a letter from the Tribal Government authorizing them to represent the tribe. The letter should be submitted at least three days in advance of the Consultation Session to Ann Linehan at (202) 205-9721 (fax). Other representatives of tribal organizations and Native nonprofit organizations are welcome to attend as observers.

A detailed report of the Consultation Session will be prepared and made available within 90 days of the Consultation Session to all Tribal Governments receiving funds for Head Start and Early Head Start programs. Tribes wishing to submit written testimony for the report should send testimony to Ann Linehan at Ann.Linehan@acf.hhs.gov either prior to the Consultation Session or within 30 days after the meeting.

Oral testimony and comments from the Consultation Session will be summarized in each report without attribution, along with topics of concern and recommendations. Hotel and logistical information for the Consultation Session has been sent to tribal leaders via email and posted on the Head Start Resource Center Web site at http://www.headstartresourcecenter.org.

Dated: July 23, 2012.
Yvette Sanchez Fuentes,
Director, Office of Head Start.

[FR Doc. 2012-19587 Filed 8-10-12; 8:45 am]

BILLING CODE 4184-40-P